DEPARTMENT OF TRANSPORTATION

Office of the Secretary

Aviation Proceedings, Agreements Filed the Week Ending March 21, 2003

The following Agreements were filed with the Department of Transportation under the provisions of 49 U.S.C. 412 and 414. Answers may be filed within 21 days after the filing of the application.

Docket Number: OST-2003-14710.

Date Filed: March 17, 2003.

Parties: Members of the International Air Transport Association.

Subject:

PTC2 AFR 0135 dated March 14, 2003,

Mail Vote 272—Resolution 010a,

TC2 Within Africa Special Passenger Amending Resolution,

Intended effective date: April 15, 2003.

Docket Number: OST-2003-14712.

Date Filed: March 17, 2003.

Parties: Members of the International Air Transport Association.

Subject:

PTC2 ME-AFR 0101 dated March 18, 2003,

Mail Vote 274—Resolution 002cc,

TC2 Middle East-Africa Special Passenger Amending Resolution,

Intended effective date: April 15, 2003.

Docket Number: OST-2003-14719.

Date Filed: March 19, 2003.

Parties: Members of the International Air Transport Association.

Subject:

PTC12 SATL-EUR 0105 dated February 11, 2003,

TC12 South Atlantic-Europe Resolutions r1-r12,

Minutes—PTC12 SATL-EUR 0106 dated March 4, 2003,

Tables—PTC12 SATL-EUR Fares 0028 dated February 14, 2003,

Intended effective date: April 1, 2003.

Docket Number: OST-2003-14720.

Date Filed: March 19, 2003.

Parties: Members of the International Air Transport Association.

Subject:

PTC2 EUR 0500 dated March 21, 2003,

Mail Vote 281—Resolution 010u,

TC2 Within Europe Special Passenger Amending Resolution from Austria to Europe,

PTC2 EUR 0501 dated March 21, 2003,

Mail Vote 283—Resolution 010w,

TC2 Within Europe Special Passenger Amending Resolution from UK to Europe,

PTC2 EUR 0502 dated March 21, 2003,

Mail Vote 275—Resolution 010t,

TC2 Within Europe Special Passenger Amending Resolution from Spain to Europe,

PTC2 EUR 0503—dated March 21, 2003,

Mail Vote 285—Resolution 010x ,

TC2 Within Europe Special Passenger Amending Resolution from Belgium to Europe,

Intended effective dates: March 26, 2003, March 28, 2003, April 1, 2003.

Docket Number: OST-2003-14721.

Date Filed: March 19, 2003.

Parties: Members of the International Air Transport Association.

Subject:

PTC12 MATL-EUR 0075 dated February 11, 2003,

TC12 Mid Atlantic-Europe Resolution r1-r23,

Minutes—PTC12 MATL-EUR 0076 dated March 7, 2003,

Tables—PTC12 MATL-EUR Fares 0024 dated February 14, 2003,

Intended effective date: April 1, 2003.

Docket Number: OST-2003-14722.

Date Filed: March 19, 2003.

Parties: Members of the International Air Transport Association.

Subject:

PTC12 MEX-EUR 0057 dated February 18, 2003,

TC12 North Atlantic Mexico-Europe Resolutions r1-r20,

Minutes—PTC12 MEX-EUR 0058 dated March 11, 2003,

Tables—PTC12 MEX-EUR Fares 0021 dated February 21, 2003,

Intended effective date: May 1, 2003.

Docket Number: OST-2003-14723.

Date Filed: March 19, 2003.

Parties: Members of the International Air Transport Association.

Subject:

PTC12 NMS-ME 0189 dated February 28, 2003,

Mail Vote 267—TC12 Mid Atlantic-Middle East

Resolutions r1-r10,

PTC12 NMS-ME 0190 dated March 4, 2003,

Mail Vote 268—TC12 South Atlantic-Middle East

Resolutions r11-r20,

Minutes—PTC12 NMS-ME 0191 dated March 14, 2003,

Tables—PTC2 NMS-ME Fares 0099 dated February 28, 2003 (Mid Atlantic),

PTC12 NMS-ME Fares 0103 dated March 7, 2003 (South Atlantic),

Intended effective date: April 1, 2003.

Docket Number: OST-2003-14724.

Date Filed: March 19, 2003.

Parties: Members of the International Air Transport Association.

Subject:

PTC12 NMS-ME 0185 dated February 18, 2003,

TC12 North Atlantic-Middle East Resolutions r1-r26,

Minutes—PTC12 NMS-ME 0191 dated March 14, 2003,

Tables—PTC12 NMS-ME Fares 0097 dated February 21, 2003,

Intended effective date: April 1, 2003.

Docket Number: OST-2003-14763.

Date Filed: March 21, 2003.

Parties: Members of the International Air Transport Association.

Subject:

PTC2 EUR 0504 dated March 25, 2003,

Mail Vote 287—Resolution 010z,

TC2 Within Europe Special Passenger Amending Resolution from Morocco to Europe,

PTC2 EUR 0505 dated March 25, 2003,

Mail Vote 288—Resolution 010a,

TC2 Within Europe Special Passenger Amending Resolution from Portugal to Europe,

Intended effective date: April 1, 2003.

Dorothy Y. Beard,
Chief, Docket Operations & Media Management, Federal Register Liaison.

[FR Doc. 03-7657 Filed 3-28-03; 8:45 am]

BILLING CODE 4910-62-P